DEPARTMENT OF ENERGY

Determination To Establish the Commission on Fire Safety and Preparedness

Pursuant to the Federal Advisory Committee Act (Pub. L. 92-463, and title 41, Code of Federal Regulations, subpart 101-6, Final Rule on Federal Advisory Committee Management), I hereby certify that the Commission on Fire Safety and Preparedness is necessary and in the public interest in connection with the performance of duties imposed on the Department of Energy by law. This determination follows consultation with the Committee Management Secretariat of the General Services Administration, pursuant to 41 CFR subpart 101-6.10.

The purpose of the Commission is to provide the Secretary of Energy and the Assistant Secretary of Environment, Safety and Health, with advice, information, and recommendations on the readiness of the Department of Energy complex for the threat of wildland and facility fires. The Commission will provide an organized forum to evaluate the nature of the risk of fire and concomitant risk of loss, the state of the Department's fire protection programs, and emergency response systems. The Commission will also review and provide recommendations on a comprehensive fire policy for the Department of Energy complex.

Commission members will be chosen to ensure an appropriately balanced representation of various points of view and functions of interested stakeholders and professionals, including fire safety engineering, fire science, firefighter safety, risk/benefit analysis, and emergency response systems. Particular attention will be given to obtaining diversity, a balance of subdisciplines, a balance of interests, experiences, and points of view. All meetings of the Commission will be noticed ahead of time in the Federal Register.

Further information regarding this Advisory Committee may be obtained from Amina Khan, Senior Policy Advisor, Office of Defense Programs, DP-1, 1000 Independence Avenue, SW., Washington, DC 20585, phone (202) 586-6982.

Issued in Washington, DC, on December 15, 2000.
James N. Solit,
Advisory Committee Management Officer.

[FR Doc. 00-32414 Filed 12-19-00; 8:45 am]

BILLING CODE 6450-01-M